DEPARTMENT OF DEFENSE

Department of the Army

Availability of U.S. Patents for Non-Exclusive, Exclusive, or Partially Exclusive Licensing

AGENCY: U.S. Army Soldier and Biological Chemical Command, U.S. Army, DoD.

ACTION: Notice.

SUMMARY: In accordance with 37 CFR 404.7(a)(1) and 35 U.S.C. 209, announcement is made of the availability for licensing of the following U.S. Patents for nonexclusive, exclusive or partially exclusive licensing. All of the patents listed below have been assigned to the United States of America as represented by the Secretary of the Army, Washington, DC.

“Low Concentration Aerosol Generator”, U.S. Patent 5,918,254 Issued 29 June 1999

The Low concentration Aerosol Generator provides an improved aerosol particle generation apparatus useful in the calibration and profiling of aerosol analyzing instruments which are used to detect biological warfare agents. The apparatus is capable of generating aerosol particles of a known particle size, having a known particle count, and in low concentrations.

“Hydrolysis and Biodegration of the Chemical Warfare Vesicant Agent HT”, U.S. Patent 6,017,750 Issued 25 January 2000

This invention relates generally to the field of demilitarizing chemical warfare agents. More particularly, the invention provides a method of detoxifying the chemical warfare agent HT using a sequencing bioreactor.

“Propellant Based Aerosol Generating Device and Method of Use”, U.S. Patent 6,047,644 Issued 11 April 2000

The present invention relates to a device and method for aerosol using propellant gas generation to provide a pyrotechnic, non-explosive means for propellant disseminated aerosol payloads for military and civilian purposes.

“Continuous Fed-Batch Degradation of Decontaminating Solution 2 (DS2)”, U.S. Patent 6,054,310 Issued 25 April 2000

The present invention is a process for biodegradation of an amine compound and a composition useful in that process. The process and composition allow for the degradation of amine compounds that are environmental toxic, especially chemical compound containing DETA such as DS2. The process provides for the continuous fed-batch biodegradation of Decontamination Solution 2 (DS2).

“Infrared Mueller Matrix Detection and Ranging System”, U.S. Patent 6,060,710 Issued 9 May 2000

The present invention relates to an active remote sensing system. It identifies chemical and/or biological materials (CBMs) at a distance by interrogating the materials with modulated polarized infrared laser light, collect backscattered polarized infrared laser radiation, electronically record the information from the collected polarized infrared radiation, and mathematically analyze the information to identify the CBMs. Additionally, the device and method may determine the distance to the CBMs.

“Solid Particle Aerosol Belt and Dissemination Method”, U.S. Patent 6,076,671 Issued 20 June 2000

The present invention is a solid particle aerosol device and a method for disseminating the solid particle aerosol from the device. The device and method of solid particle aerosol dispersal permit easy handling and dissemination of the solid particle aerosol in combat and non-combat operations. The device and method also provide rapid and efficient dispersal of solid particle aerosol into the atmosphere for military and civilian purposes.

“Enzymatic Detoxification of Organophosphorus Compounds”, U.S. Patent 6,080,566 Issued 27 June 2000

The present invention relates generally to the hydrolysis of organophosphorus compounds. More specifically, the present invention relates to the expression of a recombinant bacterial enzyme which is useful for detoxifying cholinesterase-inhibiting organophosphorus compounds such as pesticides and chemical nerve agents and the decontamination of substances contaminated with these compounds.

FOR FURTHER INFORMATION CONTACT: Mr. Bob Gross, Technology Transfer Office, U.S. Army SBCCOM, ATTN: AMSSB-RAS-C, 5183 Blackhawk Road (Bldg E3330/245), APG, MD 21010-5423; Phone: (410) 436-5387 or E-mail: rigross@sbccom.apgea.army.mil.

SUPPLEMENTARY INFORMATION: None.

Gregory D. Showalter,
Army Federal Register Liaison Officer.

[FR Doc. 00-21138 Filed 8-18-00; 8:45 am]

BILLING CODE 3710-08-U